MILLENNIUM CHALLENGE CORPORATION

[MCC FR 05-13]

Notice of the July 28, 2005 Millennium Challenge Corporation Board of Directors Meeting; Sunshine Act Meeting

AGENCY: Millennium Challenge Corporation.

Time and Date: 2 p.m. to 4 p.m., Thursday, July 28, 2005.

Place: Department of State, 2201 C Street, NW., Washington, DC 20520.

FOR FURTHER INFORMATION CONTACT: Information on the meeting may be obtained from Joyce B. Lanham via e-mail at Board@mcc.gov or by telephone at (202) 521-3600.

Status: Meeting will be closed to the public.

Matters to be Considered: The Board of Directors (the “Board”) of the Millennium Challenge Corporation (“MCC”) will hold a meeting to initiate the FY 2006 country selection process by identifying countries that will be candidates for Millennium Challenge Account (“MCA”) assistance in FY 2006 based on the per capita income and other requirements of Section 606(a) of the Millennium Challenge Act of 2003 (Pub. L. 108-199 (Division D)) (the “Act”) and to discuss other Compact development efforts with MCA-eligible countries, the MCC Threshold Program, and certain administrative matters, all which are expected to involve the consideration of classified information and will be closed to the public.

Dated: July 20, 2005.
Jon A. Dyck,
Vice President and General Counsel, Millennium Challenge Corporation.

[FR Doc. 05-14597 Filed 7-20-05; 12:40 pm]

BILLING CODE 9210-01-P